DEPARTMENT OF THE INTERIOR

National Park Service

National Register of Historic Places; Notification of Pending Nominations

Nominations for the following properties being considered for listing in the National Register were received by the National Park Service before January 18, 2002. Pursuant to section 60.13 of 36 CFR part 60 written comments concerning the significance of these properties under the National Register criteria for evaluation may be forwarded by the United States Postal Service, to the National Register Historic Places, National Park Service, 1849 C St. NW., 2280, Washington, DC 20240; by all other carriers, National Register of Historic Places, National Park Service, 1201 Eye St. NW., 8th floor, Washington, DC 20005; or by fax, 202-343-1836. Written or faxed comments should be submitted by February 18, 2003.

Carol D. Shull,
Keeper of the National Register of Historic Places.

CALIFORNIA

Los Angeles County

Superior Oil Company Building, 550 S. Flower St., Los Angeles, 03000059

IDAHO

Ada County

Anduiza Hotel, 619 Grove St., Boise, 03000064

ILLINOIS

Jo Daviess County

Millville Town Site, Apple River Canyon State Park, 8663 E. Canyon Rd., Apple River, 03000066

Montgomery County

Manske-Niemann Farm, 13 Fransk Ln., Litchfield, 03000065

IOWA

Polk County

Des Moines Art Center, 4700 Grand Ave., Des Moines, 03000063

Newens Sanitary Dairy Historic District, 2300-2312 University Ave., and 2225 University Ave., Des Moines, 03000062

Watkins, Augustus, Blacksmith Shop, 2314 University Ave., Des Moines, 03000060

Webster County

First National Bank Building, 629 Central Ave., Fort Dodge, 03000061

MICHIGAN

Wayne County

Crescent Brass and Pin Company Building, 5766 Trumball Ave., Detroit, 03000067

Sugar Hill Historic District, Bounded by Woodwar, Forest, John R. and Canfield, Detroit, 03000068

OREGON

Jefferson County

Camp Sherman Community Hall, 13025 SW Camp Sherman Rd., Camp Sherman, 03000070

Multnomah County

Martin, George W. and Hannah—John B. and Minnie Hosford House, 2004 NE 9th Ave., Oregon, 03000073

Peck Bros. and Bartle Tire Service Company Building, 900 SW 13th Ave., Portland, 03000072

PENNSYLVANIA

Chester County

Garrett Farmstead, 808 and 816 Warren Ave., Newtown Square, 03000076

Dauphin County

Quarries of the Hummelstown Brownstone Company, Roughly N of Brookline Dr., Amber Dr., Derry Township, 03000075

Delaware County

Crosley-Garrett Mill Workers' Housing, Store and Mill Site, Paper Mill Rd. and St. David's Rd., Newtown Township, 03000074

Tyler, John J., Arboretum, 515 Painter Rd., Lima, 03000080

Philadelphia County

Boekel Building, 505-515 Vine St., Philadelphia, 03000078

Hajoca Corporation Headquarters and Showroom, 3025 Walnut St., Philadelphia, 03000079

Larkin-Belber Building, 2200-2218 Arch St., Philadelphia, 03000077

Pennsylvania Railroad Office Building, 3175 John F. Kennedy Blvd., Philadelphia, 03000071

RHODE ISLAND

Providence County

Brown and Sharpe Manufacturing Company Complex, Promenade, Bath, Calverly, West Park, Holden, and Brownell Sts, and I-95, Providence, 03000081

UTAH

Box Elder County

Jeppson-Reeder House (Brigham City MPS), 631 North Main, Brigham City,03000082

WYOMING

Fremont County

Jackson Park Town Site Addition Brick Row, 615, 635 and 677 S. Third St., Lander, 03000083

Uinta County

Wyoming State Insane Asylum, 831 WY 150 S, Evanston, 03000084

In an effort to assist in the preservation of the following resource the comment period has been shortened to five (5) days:

NEBRASKA

Lancaster County

University Place Historic Residential District, Roughly Walker Ave. (51st-54 Sts), Leighton Ave. (49th-53rd Sts), Lincoln, 03000069

[FR Doc. 03-2328 Filed 1-30-03; 8:45 am]

BILLING CODE 4310-70-M